DEPARTMENT OF ENERGY

Proposed Agency Information Collection

AGENCY: U.S. Department of Energy.

ACTION: Notice and Request for Comments.

SUMMARY: The Department of Energy (DOE) invites public comment on a proposed collection of information for a National Evaluation of the State Energy Program that DOE is developing for submission to the Office of Management and Budget (OMB) pursuant to the Paperwork Reduction Act of 1995. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology. Information about the outcomes of the program, including energy savings, the number of jobs created, increases in the production of renewable energy, and reductions in carbon emissions, are needed for a rigorous evaluation of the program.

DATES: Comments regarding this proposed information collection must be received on or before September 6, 2011. If you anticipate difficulty in submitting comments within that period, contact the person listed in ADDRESSES as soon as possible.

ADDRESSES: Written comments may be sent to Martin Schweitzer, Environmental Sciences Division, Oak Ridge National Laboratory, One Bethel Valley Road, P.O. Box 2008, MS-6036, Oak Ridge, TN 37831-6036; schweitzerm@ornl.gov.

FOR FURTHER INFORMATION CONTACT: Requests for additional information should be directed to: Martin Schweitzer, Environmental Sciences Division, Oak Ridge National Laboratory, One Bethel Valley Road, P.O. Box 2008, MS-6036, Oak Ridge, TN 37831-6036; schweitzerm@ornl.gov.

SUPPLEMENTARY INFORMATION: This information collection request contains:

(1) OMB No. New.

(2) Information Collection Request Title: National Evaluation of the United States Department of Energy's State Energy Program.

(3) Type of Request: New.

(4) Purpose: The Department of Energy (DOE) is conducting an evaluation of the State Energy Program (SEP), a national program providing grants and technical support to the States, the District of Columbia and the U.S. territories to implement energy efficiency and renewable energy activities that meet their unique energy needs, while also addressing DOE's national goals, such as energy security. The SEP was created in 1996 by Congress, when the State Energy Conservation Program and the Institutional Conservation Programs were consolidated. In February 2009, the American Recovery and Reinvestment Act (ARRA) provided a substantial increase in the funding available to support SEP activities. The additional $3.1 billion of ARRA funds began to be disbursed in mid-2009 and are required to be expended by mid-2012. Due to the large differences in volume, scope, and relative priority of policy goals between the pre-ARRA and ARRA-funded activities, this evaluation will assess the outcomes of SEP programmatic activities for one program year (2008) prior to distribution of the ARRA funding as well as for the ARRA-funded program years of 2009-2011.

The principal objective of the evaluation is to estimate four key program outcomes:

• Energy, cost, and demand savings;

• Increases in renewable energy capacity and generation;

• Carbon emissions reductions; and

• Direct and indirect job creation

The evaluation will require information to be collected from SEP State program managers, SEP program implementation staff in selected States, participants in selected SEP programs, and equipment vendors familiar with participants' purchases of qualifying equipment.

Scale of the Information Collection

The evaluation effort will focus on programmatic activities implemented in 2008 (prior to the ARRA funding) and in Program Years 2009-2011 (with ARRA funding). Programmatic activities will be organized into “Broad Program Area Categories” (BPACs) for purposes of conducting the research. For each evaluation period, DOE has determined that those BPACs accounting for approximately 80 percent of the total SEP activity will be evaluated.

A sampling frame consisting of all relevant programmatic activities for Program Year 2008 and program years 2009-2011 will be compiled, assigning each programmatic activity to a single BPAC. A probability sample of approximately 90 individual programmatic activities will be selected, using BPACs as strata, to represent the most heavily-funded activities in the portfolio of SEP's energy efficiency and renewable energy efforts. The total level of effort for the evaluation will be allocated to BPACs in proportion to their level of spending.

To use resources efficiently, the programmatic activities within the various BPACs will be studied at different levels of rigor, reflecting their relative size and expected contribution towards overall energy savings. Rigor level corresponds to both the statistical analysis and the quality of data necessary to support the analysis. High Rigor evaluation approaches will yield the most reliable impact estimates, using methods recognized by the California Evaluation Protocols, DOE's Impact Evaluation Framework for Technology Deployment Programs, and the International Performance Measurement and Verification Protocol (IPMVP). The high-rigor evaluation methods will be applied to BPACs that (a) account for a large proportion of funds spent on State-level initiatives; (b) are believed to achieve substantial energy savings; (c) are considered important by the States; and (d) are expected to play a major role in future SEP efforts. Medium-high rigor methods will require verification of savings and outcomes with individual participants, but will use less intensive data collection methods than those prescribed for high-rigor. For example, data may be collected by telephone contact with participants, rather than a site visit. Sample sizes will also be smaller in the medium-high rigor evaluations. Medium-low rigor evaluation approaches will not include any data collection from individual program participants to estimate savings or outcomes. These evaluations will use data that can be obtained from program records and secondary sources, as well as engineering-based methods to produce energy savings and outcome estimates.

A range of qualitative, quantitative (survey), on-site inspection and verification, and secondary data will be used to support the evaluation. Different types of data will be required for each of the four types of previously-identified outcomes.

For estimating energy, cost, and demand savings, the high and medium-high rigor evaluations require data such as pre- and post-participation energy use and demand, surveys of measure implementation or participation, and verification of installation of energy efficient equipment and operating conditions and schedule by interview and/or on-site inspection. The calculation of energy impacts will follow the IPMVP methods and will include estimation of gross and net savings, annualizing and normalizing results to post-participation levels to calculate impacts. Medium-high rigor evaluations will utilize telephone interview data, combined with engineering data and secondary data, such as published reports and program statistics to calculate energy impacts.

The high and medium-high rigor evaluation of increases in renewable energy capacity and generation will require collection of meter data (where available from participants), on-site inspection and review of the system design and equipment used, interviews with project owners and operators, and review of project files. Medium-low rigor evaluations will utilize secondary data, such as published reports and statistics.

The high and medium-high rigor evaluations of carbon emissions reductions will require an assessment of annualized carbon dioxide reductions achieved as a result of SEP-funded activities. This assessment will require calculation of reductions in consumption of fossil fuel and replacement of fossil fuel generation with renewable energy generation. The data required for these assessments will include the types of data identified above for energy savings and for increases in renewable generation.

The high and medium-high rigor evaluations of direct and indirect job impacts will use a 51-region (State) REMI Policy Insight simulation model. Data required for the job creation analysis will include the types of data identified above for energy, cost, and demand savings to calculate the dollar savings to households and businesses resulting from energy and electric demand plus surveys of additional expenditures on new energy-efficient equipment and systems. State economic data on patterns of spending and business sales among key sectors affecting the flow of dollars into, out of and within the State will also be required.

The evaluation will utilize three distinct data collection methods. First, the evaluation will employ a total of six computer-assisted telephone interviewing (CATI) survey instruments. With an average of approximately 670 respondents per telephone survey, 4,000 telephone survey respondents will be targeted for participation in the evaluation. Second, the study will utilize 28 individual in-depth interview guides targeting an average of approximately 30 respondents each, with a total target population of approximately 880 interviewees. Third, a total of 152 on-site data collections will be conducted as part of the evaluation. Together, these three methods will involve approximately 5,050 respondents and entail a total burden of approximately 5,090 hours. (This calculation is based on assumptions that telephone surveys require 45 minutes on average, in-depth interviews—90 minutes, and on-site data collections—300 minutes.)

The above-described data collection methods will be supplemented by additional records research and database review activities applicable to all three methods across all participant categories. These general recordkeeping activities will require an estimated 1,070 hours. Combining the burden hours associated with telephone surveys, in-depth interviews, and on-site data collections (5,090 hours) with the burden hours associated with general records review (1,070 hours) produces a total estimated burden of 6,160 hours.

The evaluation protocols will provide BPAC-level estimates for each of the outcome measures. The results of the evaluations for all the BPACs studied will be expanded to produce cumulative estimates. Outcome measures will be calculated for the 2008 (pre-ARRA) and the 2009-2011 (ARRA funding) evaluation periods.

A number of steps are being taken to avoid duplicating the efforts of any concurrent evaluations of SEP activities sponsored by individual States. These include: (1) Coordinating with the National Association of State Energy Officials to share information on the programmatic activities being examined by specific States; (2) coordinating with regional DOE project officers to identify any State evaluation efforts with which they are associated; (3) meeting with selected State program managers to keep informed of ongoing evaluation efforts and the research approaches being employed; and (4) coordinating with evaluation contractors to learn of State evaluation efforts with which they are involved. These efforts will keep the national SEP evaluation informed of what States are doing so that the programmatic activities sampled for this study do not overlap with any independent State evaluations. In addition to these efforts to avoid duplication, DOE has provided a set of evaluation guidelines to the States to help inform their evaluation efforts and ensure that the results are reliable enough to allow them to be used to support the national SEP evaluation without the need to study the same activities again.

The sample selection of BPACs and specific programmatic activities within each BPAC is scheduled to be completed in May 2011. Data collection and calculation of outcomes is scheduled to be completed by July 2012.

The detailed study design and work plan for the SEP evaluation will be available for public review in May, 2011 at http://weatherization.ornl.gov/evaluation_sep.shtml.

(5) Annual Estimated Number of Respondents: 5,050.

(6) Annual Estimated Number of Total Responses: 5,050.

(7) Annual Estimated Total Number of Burden Hours: 6,160.

Statutory Authority: Title III of the Energy Policy and Conservation Act of 1975, (42 U.S.C. 6321 et seq.) as amended, authorizes DOE to administer the State Energy Program (SEP).
Issued in Washington, DC, on June 13, 2011.
Henry C. Kelly,
Acting Assistant Secretary, Energy Efficiency and Renewable Energy.

[FR Doc. 2011-16996 Filed 7-6-11; 8:45 am]

BILLING CODE 6450-01-P